COMMISSION ON CIVIL RIGHTS

Notice of Public Meeting of the Hawaii Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Hawaii Advisory Committee (Committee) will hold a meeting via teleconference on Friday, May 24, 2019, from 12:00 p.m.-1:00 p.m. (Hawaii Time) for the purpose of reviewing the Micronesian Barrier to Equal Opportunity report.

DATES: The meeting will be held on Friday, May 24, 2019, from 12:00 p.m.-1:00 p.m. (HDT)

Teleconference: The public may participate via conference call by calling (877) 260-1479 and use Conference ID #6880139.

FOR FURTHER INFORMATION CONTACT: David Barreras, DFO, at dbarreras@usccr.gov or 312-353-8311.

SUPPLEMENTARY INFORMATION: This meeting is open to the public. The public can access this meeting by calling 877-260-1479 and using access code 6880139. To request individual accommodations for persons with disabilities planning to attend, please contact the Regional Programs Unit at 312-353-8311. Members of the public are also entitled to submit written comments; the comments must be received in the regional office within 30 days following the meeting. Written comments may be mailed to the Regional Programs Unit, U.S. Commission on Civil Rights, 230 S Dearborn, Suite 2120, Chicago, IL 60604. They may also be faxed to the Commission at (312) 353-8324 or emailed to David Barreras at dbarreras@usccr.gov. Persons who desire additional information may contact the Regional Programs Unit at (312) 353-8311.

Records generated from this meeting may be inspected and reproduced at the Regional Programs Unit Office, as they become available, both before and after the meeting. Records of the meeting will be available via www.facadatabase.gov under the Commission on Civil Rights, Hawaii Advisory Committee link (https://gsageo.force.com/FACA/apex/FACAPublicCommittee?id=a10t0000001gzl0AAA). Persons interested in the work of this Committee are directed to the Commission's website, http://www.usccr.gov, or may contact the Regional Programs Unit Office at the above email or street address.

Agenda

Opening Remarks and Introductions (12:00 p.m.)

Roll Call

Discussion of Micronesian Barriers to Equal Opportunity Report

Public Comment

Adjournment

Dated: May 6, 2019.
David Mussatt,
Supervisory Chief, Regional Programs Unit.

[FR Doc. 2019-09642 Filed 5-9-19; 8:45 am]

BILLING CODE P